DEPARTMENT OF HOMELAND SECURITY

Coast Guard

33 CFR Part 100

[Docket No. USCG-2022-0757]

Special Local Regulations; Marine Events Within the Seventh Coast Guard District

AGENCY: Coast Guard, Department of Homeland Security (DHS).

ACTION: Notification of enforcement of regulation.

SUMMARY: The Coast Guard will enforce a special local regulation for the Race World Offshore (RWO), Offshore World. During the enforcement period, no person or vessel may enter, transit through, anchor in, or remain within the regulated area without permission from the Captain of the Port Key West or a designated representative.

DATES: The regulations in 33 CFR 100.701 will be enforced for the location in Table 1 to § 100.701, Section (b), Item No. 4, from 10 a.m. until 4 p.m., on November 9, 11, and 13, 2022.

FOR FURTHER INFORMATION CONTACT: If you have questions about this notification of enforcement, call or email Lieutenant junior grade Hailye Reynolds, Sector Key West Waterways Management Division, Coast Guard; phone 305-292-8768, email SKWWaterways@uscg.mil.

SUPPLEMENTARY INFORMATION: The Coast Guard will enforce special local regulations in 33 CFR 100.701, Table 1 to § 100.701, Section (b), Item No. 4, for the RWO Offshore World Championship regulated area from 10:00 a.m. to 4:00 p.m. on November 9, 11, and 13, 2022. This action is being taken to provide for the safety of life on navigable waterways during this 3-day event. The regulation for this marine event within the Seventh Coast Guard District, § 100.701, Table 1 to § 100.701, Section (b), Item No. 4, specifies the location of the regulated area for the RWO Offshore World Championship which encompasses a portion of the Atlantic Ocean located southwest of Key West, Florida. During the enforcement period, all persons and vessels, except those persons and vessels participating in the high-speed boat races, are prohibited from entering, transiting through, anchoring in, or remaining within the regulated area without obtaining permission from the Captain of the Port Key West or a designated representative.

In addition to this notification of enforcement in the Federal Register, the Coast Guard plans to provide notification of this enforcement period via the Local Notice to Mariners, marine information broadcasts, or both.

Dated: October 20, 2022.
Jason Ingram,
Captain, U.S. Coast Guard, Captain of the Port Key West.

[FR Doc. 2022-23249 Filed 10-25-22; 8:45 am]

BILLING CODE 9110-04-P